DEPARTMENT OF HEALTH AND HUMAN SERVICES

Centers for Disease Control and Prevention

Board of Scientific Counselors, Office of Public Health Preparedness and Response, Board of Scientific Counselors (BSC OPHPR)

Cancellation

This notice was published in the Federal Register on September 12, 2013, Volume 78, Number 177, page 56235. The meeting previously scheduled to convene on October 16-17, 2013, was cancelled.

Contact Person for More Information: Marquita Black, Executive Assistant, Office of Science and Public Health Practice, Centers for Disease Control and Prevention, 1600 Clifton Road, NE., Mailstop D-44, Atlanta, Georgia 30333, Telephone: (404) 639-7325; Facsimile: (404) 639-7977; Email: OPHPR.BSC.Questions@cdc.gov.

This notice is published less than the required 15 days prior to the start of the announced meeting, in accordance with Section 102-3.150(b) of the GSA Final Rule (2001) that allows for exceptions to the meeting notification time requirement. Section 102-3.150(b) states the following: “In exceptional circumstances, the agency or an independent Presidential advisory committee may give less than 15 calendar days' notice, provided that the reasons for doing so are included in the advisory committee meeting notice published in the Federal Register.”

In this case, the agency is giving less than 15 days' notice due to the recent furlough status of United States Federal Government, including the U.S. Department of Health and Human Services, Centers for Disease Control and Prevention, from October 1-16, 2013.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2013-26634 Filed 11-6-13; 8:45 am]

BILLING CODE 4163-18-P